DEPARTMENT OF AGRICULTURE

Agricultural Marketing Service

[Docket No. FV02-377]

Fruit and Vegetable Industry Advisory Committee

AGENCY: Agricultural Marketing Service.

ACTION: Notice of public meeting.

SUMMARY: The purpose of this notice is to notify all interested parties that the Agricultural Marketing Service (AMS) will hold a Fruit and Vegetable Industry Advisory Committee (Committee) meeting that is open to the public to attend. The U.S. Department of Agriculture (USDA) established the Committee to examine the full spectrum of issues faced by the fruit and vegetable industry and provide suggestions and ideas on how USDA can tailor its programs to meet the fruit and vegetable industry's needs. This notice sets forth the schedule and location for the meeting.

DATES: The Committee meeting which is open to the public will be held on Wednesday, September 4, 2002, from 8 a.m. to 5:30 p.m.

ADDRESSES: The Committee will meet in the Congressional Room at the Holiday Inn—On the Hill, 415 New Jersey Avenue NW., Washington, DC 20001. To submit comments for review by the Committee please send them to: Sandra Gardei, U.S. Department of Agriculture, Agricultural Marketing Service, 1400 Independence Avenue, SW., Room 2073, Washington, DC 20250 by August 30, 2002 or E-mail: Sandra.gardei@usda.gov.

FOR FURTHER INFORMATION CONTACT: Robert C. Keeney, Deputy Administrator, Fruit and Vegetable Programs (202) 720-4722, or E-mail: Robert.keeney@usda.gov.

SUPPLEMENTARY INFORMATION: Pursuant to the Federal Advisory Committee Act (FACA) (5 U.S.C. App.), notice is hereby given that the Secretary of Agriculture has established the Fruit and Vegetable Industry Advisory Committee. The elected Chairperson for the Committee is Ms. Maureen Marshall of Torrey Farms, New York. The Vice-Chairperson of the Committee is Ms. Karen Caplan of Freida's, Inc., California. The Deputy Administrator of the Agricultural Marketing Service's Fruit and Vegetable Programs, Mr. Robert C. Keeney, is the Committee's Executive Secretary, and Ms. Sandra Gardei is the Designated Official for the Fruit and Vegetable Industry Advisory Committee.

Topics for discussion at the Committee meeting on September 4, 2002, will include the following: USDA programs encouraging increased consumption of fruits and vegetables; pilot project to increase purchases of fresh produce for domestic feeding programs; possible inspection fee increase at destination markets; and a review of the market news service.

Representatives from the U.S. Department of Agriculture and the Committee will seek public comment from parties interested in fruit and vegetable programs. To submit comments for review by the Committee please send them to: Attn: Sandra Gardei, U.S. Department of Agriculture, Agricultural Marketing Services, 1400 Independence Avenue, SW., Room 2073, Washington, DC 20250 by August 30, 2002 or send comments by email to Sandra.gardei@usda.gov. The meeting is scheduled from 8 a.m. to 5:30 p.m. on Wednesday, September 4, 2002. It will be held in the Congressional Room at the Holiday Inn—On the Hill, 415 New Jersey Avenue NW., Washington, DC 20001.

Those parties that wish to attend the meeting or speak at the meeting should register on or before August 30, 2002. Space is limited. To register send an E-mail to Sandra.gardei@usda.gov or fax your request to 202-720-0016. Registrants and speakers should include their name, address, organization, and daytime telephone number. Identification will be required to be admitted to the meeting. All visitors must be registered with AMS in advance of the meeting.

If you require special accommodations, such as a sign language interpreter, please contact Robert C. Keeney, Deputy Administrator, Fruit and Vegetable Programs at (202) 720-4722, or send an E:mail to: Robert.keeney@usda.gov. The meeting will be recorded, and information about obtaining a transcript will be provided at the meeting or you may call 202-720-4722 to obtain a transcript two weeks after the meeting.

Dated: July 11, 2002.
A.J. Yates,
Administrator, Agricultural Marketing Service.

[FR Doc. 02-17991 Filed 7-16-02; 8:45 am]

BILLING CODE 3410-02-P